DEPARTMENT OF ENERGY

Federal Energy Regulatory Commission

[Docket No. RP01-421-000]

Texas Eastern Transmission, LP; Notice of Tariff Filing

May 18, 2001.

Take notice that on May 16, 2001, Texas Eastern Transmission, LP (Texas Eastern) tendered for filing as part of its FERC Gas Tariff, Seventh Revised Volume No. 1, the revised tariff sheets listed on Appendix A to the filing to be effective October 1, 2001.

Texas Eastern states that the purpose of this filing is to comply with Ordering Paragraph (F) of the Order Issuing Certificate issued April 12, 2001, in Docket No. CP00-404-000 (April 12 Order). Texas Eastern states that the revised tariff sheets implement the incremental recourse rate approved in the April 12 Order and the related negotiated rate.

Texas Eastern states that copies of its filing have been mailed to all affected customers and interested state commissions as well as parties to the proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-13090 Filed 5-23-01; 8:45 am]

BILLING CODE 6717-01-M